FEDERAL MEDIATION AND CONCILIATION SERVICE

Labor-Management Cooperation Program; Information Collection Request

AGENCY: Federal Mediation and Conciliation Service.

ACTION: Publication of FMCS seeking comments on the following information collection.

SUMMARY: The Federal Mediation and Conciliation Service (FMCS) is seeking comments on the following information colleciton requests. FMCS submitted to the Office of Management and Budget (OMB) a request for review of six FMCS forms. The forms are SF-242 Application or Reimbursement, (LM-8) Project Performance, SF-269a (LM-7) Financial Status Report, (LM-9) FMCS Grants Program Grantee Evaluation and (LM-3) Accounting System and Financial Capability Questionnaire.

DATES: Comments must be submitted within 60 days from the date of this publication in the Federal Register.

ADDRESSES: Send Comments to: Office of Information and Regulatory Affairs of Office of Management and Budget, Attention: Desk Officer for the Federal Mediation and Conciliation Service, Room 10235, Washington, DC 20503.

FOR FURTHER INFORMATION CONTACT: Jane A. Lorber, (202) 606-8181.

FEDERAL MEDIATION AND CONCILIATION SERVICE

Proposed Agency Information Collection Activities; Comment Request

AGENCY: Federal Mediation and Conciliation Service.

ACTION: Notice of Forms SF-424, SF-270 (LM-6), (LM-8), SF-269a (LM-7), (LM-9), and (LM-3) submitted for extension and review to the Office of Management and Budget.

SUMMARY: This notice announces that six information collection requests contained in the Federal Mediation and Conciliation Service (FMCS) agency forms are coming up for renewal. FMCS submitted to the Office of Management and Budget (OMB) a request for review of six FMCS forms: SF-424 Application for Federal Assistance, SF-270 (LM-6)—Request for Advance or Reimbursement, (LM-8)—Project Performance, SF-269 (LM-7)—Financial Status Report, (LM-9)—FMCS Grants Program Grantee Evaluation Questionnaire, and (LM-3)—Accounting System and Financial Capability Questionnaire. In addition to renewing these forms in paper format, FMCS will also provide the forms on-line in a fillable format to allow for application by electronic means as required by the Federal Financial Assistance Management Improvement Act of 1999, Public Law 106-107. The request seeks OMB approval for a three-year expiration date of Forms SF-424, SF-269a (LM-6), (LM-8), SF-270a (LM-7), (LM-9) and (LM-3) until December 31, 2004. FMCS is soliciting comments on specific aspects of the collection as described below.

DATES: Comments must be submitted on or before February 28, 2002.

ADDRESSES: Submit written comments identified by the appropriate agency form number by mail to to the Office of Information and Regulatory Affairs of Office of Management and Budget, Attn: Desk Office for the Federal Mediation and Conciliation Service, Room 10235, Washington, DC 20503. Copies of the complete agency forms may be obtained from the Labor Management Grants Program at Federal Mediation and Conciliation Service, the Labor Management Grants Program, 2100 K Street, NW., Washington, DC 20427 or by contacting the person whose name appears under the section headed, FOR FURTHER INFORMATION CONTACT.

Comments and data may also be submitted by fax at (202) 606-3434 or electronically by sending electronic (e-mail) to ilorber@fmcs.gov or lstubbs@fmcs.gov. All comments and data in electronic form must be identified by the appropriate agency form number. No confidential business information (CBI) should be submitted through e-mail.

Information submitted as a comment concerning this document may be claimed confidential by marking any part or all of the information as “CBI”. Information so marked will not be disclosed but a copy of the comment that does contain CBI must be submitted for inclusion in the public record. Information not marked confidential may be disclosed publicly by FMCS without prior notice. All written comments will be available for inspection in Room 714 at the Washington, DC address above from 8:30 a.m. to 4:30 p.m. Monday through Friday, excluding legal holidays.

FOR FURTHER INFORMATION CONTACT: Ms. Jane Lorber, Director of Labor Management Grants Program or Ms. Linda Stubbs, Grants Management Specialists, FMCS 2100 K Street, NW., Washington, DC 20427. Telephone (202) 606-8181; Fax (202) 606-3434.

SUPPLEMENTARY INFORMATION: Copies of each of the agency forms are available from the Labor-Management Grants Program, by calling, facing, or writing, Ms. Linda Stubbs at the above address. Please ask for the form by title and agency form number.

I. Information Collection Requests

FMCS is seeking comments on the following information collection requests contained in FMCS agency forms.

Agency: Federal Mediation and Conciliation Service.

Form Number: OMB No. 3076-0006.

Type of Request: Extension of Expiration date of a currently approved collection without any change in the substance. In compliance with the Federal Financial Assistance Management Improvement Act of 1999, Public Law 106-107, an electronic filing is being added as a collection method.

Affected Entities: Potential applicants/grantees who received our grant application kit. Also, applicants/grantees who have received a grant from FMCS.

Frequency:

a. Three of the forms the SF-424, LM-6, and LM-9 are submitted at the applicant/grantee's discretion.

b. To conduct the quarterly submission, LM-7/LM-8 forms are used. Less than quarterly reports would deprive FMCS of the opportunity to provide promptly technical assistance to deal with those problems identified in the report.

c. Once per application. The LM-3 is the only form to which a “similar information” requirement could apply. That form takes the requirement into consideration by accepting recent audit reports in lieu of applicant completion of items C2 through 9 and items D1 through 3.

Burden: SF-424 Application for Federal Assistance, SF-270 (LM-6) Request for Advance or Reimbursement-30 minutes, (LM-8) Project Performance-60 minutes, SF-269a (LM-7) Financial Status Report-30 minutes, (LM-9) FMCS Grants Program Evaluation Questionnaire-60 minutes, and (LM-3) Accounting System and Financial Capability Questionnaire 60 minutes.

Abstract: Except for the FMCS Forms LM-3 and LM-9, the forms under consideration herein are either required or recommended on OMB Circulars. The two exceptions are non-recurring forms, the former a questionnaire sent only to non-governmental potential grantees and the latter a questionnaire sent only to former grantees for voluntary completion and submission.

The collected information is used by FMCS to determine annual applicant suitability, to monitor quarterly grant project status, and for on-going program evaluation. If the information were not collected, there could be no accounting for the activities of the program. Actual use has been the same as intended use.

II. Request for Comments

FMCS solicits comments to:

(i) Evaluate whether the proposed collection of information is necessary for the proper performance of the functions of the agency, including whether the information will have practical utility.

(ii) Evaluate the accuracy of the agency's estimates of the burden of the proposed collection of information.

(ii) Enhance the quality, utility, and clarity of the information to be collected.

(iv) Minimize the burden of the collection of information on those who are to respond, including the use of appropriate automated electronic collection technologies or other forms of information technology, e.g. permitting electronic and fax submission of responses.

III. The Official Record

The official record is the paper records maintained at the address in ADDRESSES at the beginning of this document. FMCS will transfer all electronically received comments into printed form as they are received. These records are available for inspection from 8:30 a.m. to 4:30 p.m., Monday through Friday, excluding legal holidays.

List of Subjects

Labor-Management Cooperation Program and Information collection requests.

Dated: December 21, 2001.
Jane A. Lorber,
Director, Labor Management Grants Program.

[FR Doc. 02-3886 Filed 2-15-02; 7:45 am]

BILLING CODE 6372-01-M